DEPARTMENT OF ENERGY

Federal Energy Regulatory Commission

[Docket No. RP00-285-001]

Northwest Alaskan Pipeline Company; Notice of Compliance Filing

July 21, 2000.

Take notice that on July 17, 2000 Northwest Alaska Pipeline Company (Northwest Alaskan) tendered for filing information regarding certain state tax litigation expenses that it has included in its demand charge adjustment filing in this proceeding and in prior adjustments. Northwest Alaska asserts that the purpose of this filing is to comply with the Commission's order issued June 30, 2000, in the above referenced docket.

Any person desiring to protest said filing should file a protest with the Federal Energy Regulatory Commission, 888 First Street, N.E., Washington, D.C. 20426, in accordance with Section 385.211 of the Commission's Rules and Regulations. All such protests must be filed on or before July 28, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-18877 Filed 7-25-00; 8:45 am]

BILLING CODE 6717-01-M